DEPARTMENT OF DEFENSE

Office of the Secretary

[Docket ID: DoD-2023-OS-0121]

Submission for OMB Review; Comment Request

AGENCY: Office of the Under Secretary of Defense for Personnel and Readiness (OUSD (P&R)), Department of Defense (DoD).

ACTION: 30-Day information collection notice.

SUMMARY: The DoD has submitted to the Office of Management and Budget (OMB) for clearance the following proposal for collection of information under the provisions of the Paperwork Reduction Act.

DATES: Consideration will be given to all comments received by February 18, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Recruiting, Retaining, and Promoting Servicemembers who Identify as Hispanic or Latino/Latina; OMB Control Number 0704-RPSS.

Type of Request: New.

Number of Respondents: 2,140.

Responses per Respondent: 1.

Annual Responses: 2,140.

Average Burden per Response: 36.17 minutes.

Annual Burden Hours: 1,290.

Needs and Uses: Over the last several years, the DoD has been concerned about the force's ethnic composition due to underrepresentation of Hispanic or Latino/Latina service members in the senior grades across the services. The Fiscal Year 2022 National Defense Authorization Act (NDAA), Section 572, also requires a study focused on the recruitment, retention, and promotion of service members identifying as Hispanic. To address these items covered by the FY22 NDAA, OUSD (P&R) Office for Diversity, Equity, and Inclusion (ODEI) has contracted with CNA to conduct a study to identify and address gaps in DoD's understanding of the recruitment, retention, and career progression of Hispanic service members; evaluate past efforts and initiatives by DoD and the services aimed at increasing Hispanic representation; and identify key lessons learned or best practices that should inform future initiatives. As part of this study, CNA will conduct service-specific in-person and virtual focus groups with active-duty service members in the Marine Corps, Army, Navy, Air Force, and Space Force. The voluntary focus groups will inquire about focus group participants' opinions and experiences based on their military careers. The purpose of the focus groups is to better understand the challenges that service members face in recruiting, retention, and promotion, especially for those who identify as Hispanic or Latino/Latina.

Additionally, Florida International University, a subcontractor to CNA on this study, will conduct a survey among eligible members of the general Hispanic population who are registered to vote in the United States (U.S.), analyze the survey data, and produce a report detailing findings and recommendations for ODEI. The intent of the survey is to examine factors that influence the U.S. Hispanic population's perceptions of military service in the U.S. Armed Services and to identify the root causes for the notable disparity in the recruitment, retention, and promotion of service members who identify as Hispanic. Participation in the survey will be voluntary.

Affected Public: Individuals or households.

Frequency: Once.

Respondent's Obligation: Voluntary.

DoD Clearance Officer: Mr. Reginald Lucas.

Dated: January 13, 2025.
Stephanie J. Bost,
Alternate OSD Federal Register Liaison Officer, Department of Defense.

[FR Doc. 2025-01137 Filed 1-16-25; 8:45 am]

BILLING CODE 6001-FR-P